DEPARTMENT OF HOMELAND SECURITY

Coast Guard

33 CFR Part 117

[Docket No. USCG-2017-1031]

Drawbridge Operation Regulation; Passaic River, Newark, NJ

AGENCY: Coast Guard, DHS.

ACTION: Notice of deviation from drawbridge regulation.

SUMMARY: The Coast Guard has issued a temporary deviation from the operating schedule that governs the Routes 1 & 9 (Lincoln Highway) Bridge across the Passaic River, mile 1.8 at Newark, New Jersey. This deviation is necessary to facilitate structural steel repairs at the lift span and allowing the bridge owner to temporarily close the draw for forty-seven days.

DATES: This deviation is effective without actual notice from November 21, 2017 until 11:59 p.m. on January 5, 2018. For the purposes of enforcement, actual notice will be used from 12:01 a.m. on November 20, 2017 until November 21, 2017.

ADDRESSES: The docket for this deviation, USCG-2017-1031, is available at http://www.regulations.gov. Type the docket number in the “SEARCH” box and click “SEARCH”. Click on Open Docket Folder on the line associated with this deviation.

FOR FURTHER INFORMATION CONTACT: If you have questions on this temporary deviation, call or email Judy K. Leung-Yee, Bridge Management Specialist, First District Bridge Branch, U.S. Coast Guard; telephone 212-514-4336, email Judy.K.Leung-Yee@uscg.mil.

SUPPLEMENTARY INFORMATION: The owner of the bridge, the New Jersey Department of Transportation, requested a temporary deviation in order to facilitate structural steel repairs at the lift span.

The Routes 1 & 9 Bridge across the Passaic River, mile 1.8, at Newark, New Jersey is a vertical lift bridge with a vertical clearance of 40 feet at mean high water and 45 feet at mean low water in the closed position. The existing drawbridge operating regulations are listed at 33 CFR 117.739(b).

This temporary deviation will allow the Routes 1 & 9 Bridge to remain in the closed position from 12:01 a.m. on November 20, 2017 to 11:59 p.m. on January 5, 2018. The waterway users are seasonal recreational vessels and commercial vessels of various sizes. Coordination with waterway users indicated no objection to the proposed closure of the draw. Vessels that can pass under the bridge without an opening may do so at all times. The bridge will not be able to open for emergencies. There is no alternate route for vessels to pass.

The Coast Guard will also inform the users of the waterways through our Local and Broadcast Notices to Mariners of the change in operating schedule for the bridge so vessel operators may arrange their transits to minimize any impact caused by the temporary deviation.

In accordance with 33 CFR 117.35(e), the drawbridge must return to its regular operating schedule immediately at the end of the effective period of this temporary deviation. This deviation from the operating regulations is authorized under 33 CFR 117.35.

Dated: November 16, 2017.
Christopher J. Bisignano,
Supervisory Bridge Management Specialist, First Coast Guard District.

[FR Doc. 2017-25157 Filed 11-20-17; 8:45 am]

BILLING CODE 9110-04-P